DEPARTMENT OF LABOR

Employment and Training Administration

Workforce Investment Act; Native American Employment and Training Council

AGENCY: Employment and Training Administration, U.S. Department of Labor.

ACTION: Notice of Meeting.

SUMMARY: Pursuant to Section 10(a)(2) of the Federal Advisory Committee Act (FACA) (Pub. L. 92-463), as amended, and Section 166(h)(4) of the Workforce Investment Act (WIA) [29 U.S.C. 2911(h)(4)], notice is hereby given of the next meeting of the Native American Employment and Training Council (NAETC), as constituted under WIA.

DATES: The meeting will begin at 10:30 a.m. (Pacific Standard Time) on Thursday, May 21, 2009, and continue until 4:30 p.m. that day. The meeting will reconvene at 9 a.m. on Friday, May 22, 2009, and adjourn at 12 p.m. that day. The period from 2 p.m. to 4:30 p.m. on May 21, 2009, will be reserved for participation and presentations by members of the public.

ADDRESSES: The meetings will be held at the Double Tree Hotel Sacramento, 2001 West Point Way, Sacramento, California 95815.

SUPPLEMENTARY INFORMATION: The meeting will be open to the public. Members of the public not present may submit a written statement on or before May 14, 2009, to be included in the record of the meeting. Statements are to be submitted to Mrs. Evangeline M. Campbell, Designated Federal Official (DFO), U.S. Department of Labor, 200 Constitution Avenue, NW., Room S-4209, Washington, DC 20210. Persons who need special accommodations should contact Mr. Craig Lewis at (202) 693-3384, at least two business days before the meeting. The formal agenda will focus on the following topics: (1) U.S. Department of Labor, Employment and Training Administration Transition; (2) U.S. Department of Labor, Employment and Training Administration Recovery and Reinvestment Act Training and Employment Guidance; (3) Election of Committee Chair; (4) Introduction of Newly Appointed Council Members; (5) U.S. Department of Labor, Indian and Native American Program Update and Strategic Planning; (6) Native American and Employment Training Council Workgroup Reports; (7) Council Update; and (8) Council Recommendations.

FOR FURTHER INFORMATION CONTACT: Mrs. Evangeline M. Campbell, DFO, Indian and Native American Programs, Employment and Training Administration, U.S. Department of Labor, Room S-4209, 200 Constitution Avenue, NW., Washington, DC 20210. Telephone number (202) 693-3737 (VOICE) (this is not a toll-free number).

Signed at Washington, DC, this 9th day of April 2009.
Douglas F. Small,
Deputy Assistant Secretary, Employment and Training Administration.

[FR Doc. E9-8734 Filed 4-15-09; 8:45 am]

BILLING CODE 4510-FN-P